DEPARTMENT OF HOMELAND SECURITY

Federal Emergency Management Agency

44 CFR Part 67

Final Flood Elevation Determinations

AGENCY: Federal Emergency Management Agency (FEMA), Emergency Preparedness and Response Directorate, Department of Homeland Security.

ACTION: Final rule.

SUMMARY: Base (1% annual chance) Flood Elevations (BFEs) and modified BFEs are made final for the communities listed below. The BFEs and modified BFEs are the basis for the floodplain management measures that each community is required either to adopt or to show evidence of being already in effect in order to qualify or remain qualified for participation in the National Flood Insurance Program (NFIP).

EFFECTIVE DATES: The date of issuance of the Flood Insurance Rate Map (FIRM) showing BFEs and modified BFEs for each community. This date may be obtained by contacting the office where the maps are available for inspection as indicated on the table below.

ADDRESSES: The final BFEs for each community are available for inspection at the office of the Chief Executive Officer of each community. The respective addresses are listed in the table below.

FOR FURTHER INFORMATION CONTACT: Doug Bellomo, P.E., Hazard Identification Section, Emergency Preparedness and Response Directorate, FEMA, 500 C Street SW., Washington, DC 20472, (202) 646-2903.

SUPPLEMENTARY INFORMATION: FEMA makes the final determinations listed below for the modified BFEs for each community listed. These modified elevations have been published in newspapers of local circulation and ninety (90) days have elapsed since that publication. The Mitigation Division Director of the Emergency Preparedness and Response Directorate, has resolved any appeals resulting from this notification.

This final rule is issued in accordance with section 110 of the Flood Disaster Protection Act of 1973, 42 U.S.C. 4104, and 44 CFR part 67.

The Agency has developed criteria for floodplain management in floodprone areas in accordance with 44 CFR part 60.

Interested lessees and owners of real property are encouraged to review the proof Flood Insurance Study and FIRM available at the address cited below for each community.

The BFEs and modified BFEs are made final in the communities listed below. Elevations at selected locations in each community are shown.

National Environmental Policy Act. This rule is categorically excluded from the requirements of 44 CFR part 10, Environmental Consideration. No environmental impact assessment has been prepared.

Regulatory Flexibility Act. The Mitigation Division Director of the Emergency Preparedness and Response Directorate certifies that this rule is exempt from the requirements of the Regulatory Flexibility Act because final or modified BFEs are required by the Flood Disaster Protection Act of 1973, 42 U.S.C. 4104, and are required to establish and maintain community eligibility in the NFIP. No regulatory flexibility analysis has been prepared.

Regulatory Classification. This final rule is not a significant regulatory action under the criteria of Section 3(f) of Executive Order 12866 of September 30, 1993, Regulatory Planning and Review, 58 FR 51735.

Executive Order 12612, Federalism. This rule involves no policies that have federalism implications under Executive Order 12612, Federalism, dated October 26, 1987.

Executive Order 12778, Civil Justice Reform. This rule meets the applicable standards of Section 2(b)(2) of Executive Order 12778.

List of Subjects in 44 CFR Part 67

Administrative practice and procedure, Flood insurance, Reporting and recordkeeping requirements.

Accordingly, 44 CFR part 67 is amended as follows:

PART 67—[AMENDED]

1. The authority citation for part 67 continues to read as follows:

Authority: 42 U.S.C. 4001 et seq.; Reorganization Plan No. 3 of 1978, 3 CFR, 1978 Comp., p. 329; E.O. 12127, 44 FR 19367, 3 CFR, 1979 Comp., p. 376.

§ 67.11 [Amended]

2. The tables published under the authority of § 67.11 are amended as follows:

Source of flooding and location | #Depth in feet above ground. *Elevation in feet (NGVD) •Elevation in feet (NAVD)
Florida
Collier County (Unincorporated Areas) (FEMA Docket No. D-7524)
Gulf of Mexico:
Approximately 300 feet west of the intersection of Commerce Street and Gulf Shore Drive | •18
At the intersection of Seagull Avenue and Vanderbilt Drive | •13
Approximately 800 feet southwest of the intersection of Glendale Avenue and Venetian Way | •13
At the intersection of Guava Drive and Coconut Circle South | •6
Maps available for inspection at the Collier County Administrative Building, 3301 Tamiami Trail, Naples, Florida.
———
Everglades (City), Collier County (FEMA Docket No. D-7524)
Gulf of Mexico:
At the intersection of Jasmine Street and Storter Avenue | •8
At the intersection of Evergreen Street and Copeland Avenue | •7
At end of Airport Road, where it meets Everglade Airport | •10
At intersection of Begonia Street and Buckner Avenue | •7
Maps available for inspection at the Everglades City Hall, 102 Broadway, Everglades, Florida.
———
Marco Island (City), Collier County (FEMA Docket No. D-7524)
Gulf of Mexico:
At intersection of Crescent Street and Thrush Court | •8
At the intersection of Honduras Avenue and Stillwater Court | •7
Approximately 2,000 feet west of the intersection of Huron Court and Swallow Avenue | •10
Approximately 900 feet southwest of intersection of South Barfield Drive and Heights Court | •16
Maps available for inspection at the Marco Island City Hall, 50 Bald Eagle Drive, Marco Island, Florida.
———
Naples (City), Collier County (FEMA Docket No. D-7524)
Gulf of Mexico:
Approximately 600 feet west of intersection of Yucca Road and Gulf Shore Boulevard North | •16
At the intersection of Gordon Drive and Champney Bay Court | •13
At the intersection of Yucca Road and Banyan Boulevard | •10
Maps available for inspection at the Naples City Hall, 735 8th Street South, Naples, Florida.

(Catalog of Federal Domestic Assistance No. 83.100, “Flood Insurance.”)

Dated: June 14, 2005.
David I. Maurstad,
Acting Director, Mitigation Division, Emergency Preparedness and Response Directorate.

[FR Doc. 05-12170 Filed 6-20-05; 8:45 am]

BILLING CODE 9110-12-P